DEPARTMENT OF COMMERCE

National Oceanic and Atmospheric Administration

Evaluation of National Estuarine Research Reserves

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the New Hampshire and Rhode Island Coastal Managements Programs.

These evaluations will be conducted pursuant to Section 312 of the Coastal Zone Management Act of 1972 (CZMA), as amended, and regulations at 15 CFR Part 928. The CZMA requires a continuing review of the performance of states with respect to coastal program and research reserve program implementation. Evaluation of Coastal Zone Management Programs requires findings concerning the extent to which a state has met the national objectives enumerated in the CZMA, adhered to its coastal program document approved by the Secretary of Commerce, and adhered to the terms of financial assistance awards funded under the CZMA. The evaluation will include a site visit, consideration of public comments, and consultations with interested Federal, State, and local agencies and members of the public. A public meeting will be held as part of the site visit.

Notice is hereby given of the date of the site visit for the listed evaluation, and the date, local time, and location of the public meeting during the site visit.

The New Hampshire Coastal Management Program site visit will be from March 20-24, 2000. A public meeting will be held Tuesday, March 21, 2000, at 7 p.m., in the Urban Forestry Center Meeting Barn Room, 45 Elwin Road, Portsmouth, New Hampshire.

The Rhode Island Coastal Resources Management Program site visit will be from April 17-21, 2000. A public meeting will be held Wednesday, April 19, 2000, at 7 p.m., in Conference Room A, 2nd floor, RI Department of Administration, One Capitol Hill, Providence, Rhode Island.

The State will issue notice of the public meeting in a local newspaper at least 45 days prior to the public meeting, and will issue other timely notice as appropriate.

Copies of the State's most recent performance reports, as well as OCRM's notifications and supplemental request letters to the State, are available upon request from OCRM. Written comments from interested parties regarding these programs are encouraged and will be accepted until 15 days after the date of the public meeting. Please direct written comments to Margo E. Jackson, Deputy Director, Office of Ocean and Coastal Resource Management, NOS/NOAA, 1305 East-West Highway, 10th Floor, Silver Spring, Maryland, 20910. When the evaluation is completed, OCRM will place a notice in the Federal Register announcing the availability of the Final Evaluation Findings.

FOR FURTHER INFORMATION CONTACT: Margo E. Jackson, Deputy Director, Office of Ocean and Coastal Resource Management, NOS/NOAA, 1305 East-West Highway, Silver Spring, Maryland, 20910, (301) 713-3155, Extension 114.

Ted Lillestolen,
Deputy Assistant Administrator for Ocean Services and Coastal Zone Management.

[FR Doc. 00-4627 Filed 2-25-00; 8:45 am]

BILLING CODE 3510-08-M